GOVERNMENT ACCOUNTABILITY OFFICE

Appointment to the Methodology Committee of the Patient-Centered Outcomes Research Institute (PCORI)

AGENCY: Government Accountability Office (GAO).

ACTION: Notice of appointment.

SUMMARY: The Methodology Committee assists PCORI in developing and updating methodological standards and guidance for comparative clinical effectiveness research. The Patient Protection and Affordable Care Act directs the Comptroller General to appoint up to 15 members to PCORI's Methodology Committee. This notice announces the appointment of a new member, Adam Wilcox, Ph.D., Director of Medical Informatics at Intermountain Healthcare in Salt Lake City, Utah.

DATES: The appointment is effective May 2015.

ADDRESSES: GAO: 441 G Street NW., Washington, DC 20548.

PCORI: 1828 L Street NW., Suite 900, Washington, DC 20036.

FOR MORE INFORMATION CONTACT: GAO: Office of Public Affairs, (202) 512-4800.

PCORI: Joe Selby, MD, MPH, (202) 827-7700.

[Sec. 6301, Pub. L. 111-148].

Gene L. Dodaro,
Comptroller General of the United States.

[FR Doc. 2015-11955 Filed 5-19-15; 8:45 am]

BILLING CODE 1610-02-M